DEPARTMENT OF TRANSPORTATION

Coast Guard

[USCG-2001-11219]

Reform of Pilotage on the Great Lakes

AGENCY: Coast Guard, DOT.

ACTION: Notice of meeting; request for comments.

SUMMARY: The Coast Guard's Office of Great Lakes Pilotage is holding a public meeting to discuss ways of improving the safety, reliability, and efficiency of pilotage on the Great Lakes. We will also discuss issues brought to our attention during the meeting of January 30, 2001, and comments submitted to the docket for that meeting. We encourage interested parties to attend the meeting announced by this notice and submit comments for discussion during it. We also seek comments to the docket, especially from any party unable to attend the meeting.

DATES: We will hold the public meeting on January 31, 2002, from 12 p.m. to 5 p.m. We may end the meeting early, if we have covered all the topics on the agenda and if the people attending have no further comments.

Comments to the Docket: The Docket Management Facility must receive your comments on or before January 22, 2002.

ADDRESSES: We will hold the public meeting in room B1, the Federal Building, 1240 East 9th Street, Cleveland, Ohio 44199.

Comments to the Docket: Look in the first column of the table to select one of the four means of submitting your comments. Then, use the address or number in the second column to submit them:

If you are using this means | Please use this address or fax number
(1) Internet | http://dms.dot.gov
(2) In Person | Room PL-401, on the plaza level of the Nassif Building, 400 Seventh Street, SW., Washington, DC: Hours: 9 a.m. to 5 p.m., Monday through Friday. Closed on Federal holidays. Telephone number: 202-366-9329.
(3) By mail | Docket Management Facility, (USCG-1999-6635), U.S. Department of Transportation room PL-401, 400 Seventh Street, SW., Washington, DC 20590-0001.
(4) Fax | Docket Management Facility: 202-493-2251.

In choosing among these means, please give due regard to the recent difficulties with delivery of mail by the U.S. Postal Service to Federal facilities.

FOR FURTHER INFORMATION CONTACT: For information concerning this notice or the public meeting, write or call Mr. Tom Lawler, Chief Economist, Office of Great Lakes Pilotage (G-MW), U.S. Coast Guard Headquarters, 2100 Second Street, SW., Washington, DC 20590, telephone 202-267-1241. For questions on viewing or submitting material to the docket, call Dorothy Beard, Chief, Dockets, Department of Transportation, telephone 202-366-5149.

SUPPLEMENTARY INFORMATION:

How Do I Participate in This Action?

The Coast Guard encourages you to participate by submitting comments and related material, and by attending the public meeting. If you submit comments, please include—

• Your name and address;

• The docket number for this notice [USCG-2001-11219];

• The specific section of this notice to which each comment applies; and

• The reason for each comment.

You may electronically submit, deliver, mail, or fax your comments and attachments to the Docket Management Facility, using an address or fax number listed under ADDRESSES. Please do not submit the same comment or attachment by more than one means. If you mail or deliver your comments, they must be on 8½-by-11 inch paper, and the quality of the copy should be clear enough for copying and scanning. If you mail your comments, and you would like to know whether the Facility received them, please enclose a stamped, self-addressed postcard or envelope. We will consider all comments and material received during the comment period.

How Can I Get More Information, Including Copies of This Notice or Related Documents?

The Docket Management Facility maintains the public docket for this notice. The number of the docket is USCG-2001-11219. Comments, and other documents related to this notice will become part of this docket and will be available for inspection or copying as follows:

• In person: You may see the docket in room PL-401, on the Plaza Level of the Nassif Building at the same address, between 9 a.m. and 5 p.m., Monday through Friday. The facility is closed on Federal holidays.

• Electronically: You may read the docket on the Internet at http://dms.dot.gov.

Where Can I Get Information on Service for Individuals With Disabilities?

To obtain information on facilities or services for individuals with disabilities or to ask that we provide special assistance at the public meeting, please notify Mr. Tom Lawler as soon as possible. You will find his address and phone number under FOR FURTHER INFORMATION CONTACT.

Why Is the Coast Guard Holding This Public Meeting?

Annually the Coast Guard holds a meeting to respond to requests for a comprehensive review of pilotage on the Great Lakes aimed at improving safety, reliability, and efficiency. Requests for these annual meetings come from all parts of the marine industry operating on the Lakes.

What Issues Should I Discuss at the Meeting or Address in Comments to the Docket?

The public meeting on January 31, 2002, will provide a forum for members of the public to discuss ways to improve the safety, reliability and efficiency of pilotage on the Great Lakes. You may discuss or comment on means to these ends. Interested parties should submit issues for discussion at the public meeting to the docket by January 22, 2002.

What Is the Agenda for the Public Meeting?

Agenda

The agenda for the meeting on January 31, 2002, is as follows:

• 12 p.m.-12:15 p.m. Introduction and Overview.

• Review of Items from the 30 January 2001 Public Meeting, including: Standards for hours on bridges, Status of Great Lakes Pilotage Advisory Committee, Status of plan for training on Automatic Identification System, Report of water levels in ports on Great Lakes, Review of Applicant pilots' application, Reporting of status of problems on vessels,Source Forms, Policy on Recuperative Rest, Review of designated waters, and

• Discussion of issues submitted to the docket.

Dated: December 18, 2001.
Howard L. Hime,
Acting Director of Standards, Marine Safety and Environmental Protection.

[FR Doc. 01-32043 Filed 12-28-01; 8:45 am]

BILLING CODE 4910-15-U